DEPARTMENT OF THE INTERIOR

National Park Service

[NPS-WASO-NRNHL-23748; PPWOCRADI0, PCU00RP14.R50000]

National Register of Historic Places; Notification of Pending Nominations and Related Actions

AGENCY: National Park Service, Interior.

ACTION: Notice.

SUMMARY: The National Park Service is soliciting comments on the significance of properties nominated before July 8, 2017, for listing or related actions in the National Register of Historic Places.

DATES: Comments should be submitted by August 17, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before July 8, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Perry County

Lincoln Normal School, 205 Lincoln St., Marion, SG100001479

IOWA

Winneshiek County

Decorah Commercial Historic District, (Iowa's Main Street Commercial Architecture MPS), Blks. 500-100 W. Water, 100-200 E. Water, 100 Washington, 100 Winnebago, parts of W. Main, Court & W. Day Spring, Decorah, MP100001482

LOUISIANA

St. Tammany Parish

Bogue Falaya Park, 213 Park Dr., Covington, SG100001483

NEW YORK

Cayuga County

West High School, 217 Genesee St., Auburn, SG100001484

Monroe County

Potter Historic District, 1-60 Potter Place, 53, 73 & 69 W. Church St., Fairport, SG100001485

Nassau County

Kellogg, George Sumner, House, 960 Merrick Rd., Baldwin, SG100001486

New York County

Congregation Ohab Zedek, 118-120 & 122-124 W. 95th St., New York, SG100001487

Onondaga County

Dunne, Morgan, House, (Architecture of Ward Wellington Ward in Syracuse MPS), 464 Allen St., Syracuse, MP100001488

Saratoga County

International Paper Administration Building and Time Office, 17 Pine St., Corinth, SG100001489

Suffolk County

Bates, Charles and Anna, House, 126 Center St., Greenport, SG100001490

Second and Ostrander Historic District, Various, Riverhead, SG100001491

Swan River Schoolhouse, 31 Roe Ave., East Patchogue, SG100001492

OHIO

Hamilton County

Terrace Plaza Hotel, 15 W. 6th St., Cincinatti, SG100001493

VIRGINIA

Bath County

Wilderness, The, 13954 Deerfield Rd., Deerfield vicinity, SG100001494

Buckingham County

Alexander Hill Baptist Church, 1171 Jerusalem Church Rd., Buckingham vicinity, SG100001495

Loudoun County

Llangollen, 21515 Trappe Rd., Upperville, SG100001497

Orange County

Old Manse, 171 Landon Ln., Orange, SG100001498

WISCONSIN

Fond Du Lac County

St. Joseph's School, 95 E. 2nd St., Fond du Lac, SG100001500

An additional documentation has been received for the following resources:

ARIZONA

Pinal County

Evergreen Addition Historic District (Additional Documentation), Generally bounded by McMurray Blvd., Gilbert Ave., Florence Blvd., and Casa Grande Ave., Casa Grande, AD08001346

VIRGINIA

Danville Independent city

Danville Historic District (Additional Documentation), Roughly bounded by Main, Green, and Paxton Sts., and Memorial Hospital, Danville (Independent City), AD73002207

Southampton County

Vaughan, Rebecca, House (Additional Documentation), 26315 Heritage Ln., Courtland, AD06000162

Nominations submitted by Federal Preservation Officers:

The State Historic Preservation Officer reviewed the following nomination and responded to the Federal Preservation Officer within 45 days of receipt of the nomination and supports listing the property in the National Register of Historic Places.

DISTRICT OF COLUMBIA

District of Columbia

U.S. Department of State Building, 2201 C St. NW., Washington, SG100001481

Authority: 60.13 of 36 CFR part 60.

Dated: July 13, 2017.
J. Paul Loether,
Chief, National Register of Historic Places/National Historic Landmarks Program and Keeper, National Register of Historic Places.

[FR Doc. 2017-16201 Filed 8-1-17; 8:45 am]

BILLING CODE 4312-52-P